SMALL BUSINESS ADMINISTRATION

[Disaster Declaration #16148; Alaska Disaster Number AK-00045 Declaration of Economic Injury]

Administrative Declaration of an Economic Injury Disaster for the State of Alaska

AGENCY: U.S. Small Business Administration.

ACTION: Notice.

SUMMARY: This is a notice of an Economic Injury Disaster Loan (EIDL) declaration for the State of Alaska, dated 10/08/2019.

Incident: Swan Lake Fire.

Incident Period: 06/05/2019 and continuing.

DATES: Issued on 10/08/2019.

Economic Injury (EIDL) Loan Application Deadline Date: 07/08/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations. The following areas have been determined to be adversely affected by the disaster:

Primary Areas: Kenai Peninsula Borough

Contiguous Areas:

Alaska: Chugach REAA, Iditarod Area REAA, Kodiak Island Borough, Lake and Peninsula Borough, Matanuska-Susitna Borough, Municipality of Anchorage.

The Interest Rates are:

| Percent
Businesses and Small Agricultural Cooperatives Without Credit Available Elsewhere | 4.000
Non-Profit Organizations without Credit Available Elsewhere | 2.750

The number assigned to this disaster for economic injury is 161480.

The State which received an EIDL Declaration # is Alaska.

(Catalog of Federal Domestic Assistance Number 59008)

Christopher Pilkerton,
Acting Administrator.

[FR Doc. 2019-22400 Filed 10-11-19; 8:45 am]

BILLING CODE 8026-03-P